DEPARTMENT OF ENERGY

Federal Energy Regulatory Commission

[Docket No. CP06-60-000]

Enbridge Pipelines (Midla) L.L.C.; Notice of Application

February 16, 2006.

Take notice that on February 6, 2006, Enbridge Pipelines (Midla) L.L.C., 1100 Louisiana, Suite 3300, Houston, Texas 77002, filed in Docket No. CP06-60-000 an application pursuant to section 7(b) of the Natural Gas Act (NGA) for permission and approval to abandon 22.4 miles of inactive mainline pipeline ranging in diameter from 10.75 to 22 inches and related surface appurtenances in Richland and Ouachita Parishes, Louisiana, all as more fully set forth in the application which is on file with the Commission and open to public inspection. This filing may also be viewed on the Commission's Web site at http://www.ferc.gov using the “eLibrary” link, select “Docket #” and follow the instructions (call 202-502-8222 or for TTY, 202-502-8659).

Midla proposes to abandon in place or by removal approximately the 22.4 miles of inactive mainline extending from Milepost 0.0 at its Desiard compressor station in Ouachita Parish and ending at Milepost 22.4 on the T-1 Mainline in Richland Parish. Midla states that this segment of 80-year old pipeline has been shut-in since a September 2001 rupture occurred. Midla also states that the U.S. Department of Transportation (DOT) ordered Midla to shut in the failed pipeline segment and to take certain corrective action. Midla further states that it took all DOT-required corrective action, except for hydrostatically testing the line. None of Midla's existing customers would lose natural gas service following abandonment, because Midla has and will continue to provide service via its parallel Loop line.

Any questions regarding this application should be directed to Cynthia A. Corcoran, FERC Chief Compliance Officer & Senior Counsel Specialist, Enbridge Pipelines (Midla) L.L.C., 1100 Louisiana, Suite 3300, Houston, Texas 77002 at (713) 821-2265.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a) (1) (iii) and the instructions on the Commission's web site under the “e-Filing” link.

Comment Date: March 9, 2006.

Magalie R. Salas,
Secretary.

[FR Doc. E6-2619 Filed 2-23-06; 8:45 am]

BILLING CODE 6717-01-P